DEPARTMENT OF COMMERCE

International Trade Administration

[A-489-807]

Certain Steel Concrete Reinforcing Bars From Turkey; Notice of Amended Final Results of Antidumping Duty Administrative Review

AGENCY: Import Administration, International Trade Administration, Department of Commerce.

DATES: Effective Date: August 9, 2011.

FOR FURTHER INFORMATION CONTACT: Elizabeth Eastwood, AD/CVD Operations, Office 2, Import Administration, International Trade Administration, U.S. Department of Commerce, 14th Street and Constitution Avenue, NW., Washington, DC 20230; telephone (202) 482-3874.

SUPPLEMENTARY INFORMATION:

Amended Final Results

On November 7, 2008, the Department of Commerce (the Department) published the final results of its administrative review of the antidumping duty order on certain steel concrete reinforcing bars (rebar) from Turkey. See Certain Steel Concrete Reinforcing Bars From Turkey; Final Results of Antidumping Duty Administrative Review and Determination To Revoke in Part, 73 FR 66218 (Nov. 7, 2008). The period of review (POR) is April 1, 2006, through March 31, 2007.

As part of this decision, the Department, following the methodology used in the 2005-2006 administrative review, depreciated an “asset” recorded in respondent Ekinciler Demir ve Celik Sanayi A.S.'s/Ekinciler Dis Ticaret A.S.'s (Ekinciler's) financial statements which was later determined to be capitalized expenses from a proprietary event in an earlier period.

Following the publication of the final results, Ekinciler filed a lawsuit with the United States Court of International Trade (CIT) challenging the Department's final results of administrative review. See Ekinciler Demir ve Celik Sanayi A.S. & Ekinciler Dis Ticaret A.S. v. United States, Court No. 08-00415. Further, in litigation related to the 2005-2006 administrative review, the Court of Appeals for the Federal Circuit determined that the Department did not have the authority to depreciate the asset in question. See Nucor Corporation v. United States, Ekinciler, et al., Court No. 2009-1476 (April 12, 2010).

The United States and Ekinciler have now entered into an agreement to settle this dispute. Pursuant to the terms of the agreement between the United States and Ekinciler, we calculated the following amended final margin for Ekinciler for the POR and are amending the final results of the antidumping duty administrative review of rebar from Turkey as follows:

Manufacturer/Producer/Exporter | Margin Percentage
Ekinciler Demir ve Celik Sanayi A.S./Ekinciler Dis Ticaret A.S. | 0.36

Assessment

The Department shall determine, and U.S. Customs and Border Protection (CBP) shall assess, antidumping duties on all appropriate entries. Pursuant to 19 CFR 351.212(b)(1), for all sales made by Ekinciler, because we have the reported entered value of the U.S. sales, we have calculated importer-specific assessment rates based on the ratio of the total amount of antidumping duties calculated for the examined sales to the total entered value of those sales.

Pursuant to 19 CFR 351.106(c)(2), we will instruct CBP to liquidate without regard to antidumping duties any entries for which the assessment rate is de minimis (i.e., less than 0.50 percent).

The Department clarified its “automatic assessment” regulation on May 6, 2003. See Antidumping and Countervailing Duty Proceedings: Assessment of Antidumping Duties, 68 FR 23954 (May 6, 2003). This clarification will apply to entries of subject merchandise during the POR produced by Ekinciler for which it did not know its merchandise was destined for the United States. In such instances, we will instruct CBP to liquidate unreviewed entries at the all-others rate if there is no rate for the intermediate company(ies) involved in the transaction.

We are issuing this determination and publishing these amended final results and notice in accordance with 19 U.S.C. 1516a(e).

Dated: August 2, 2011.
Ronald K. Lorentzen,
Deputy Assistant Secretary for Import Administration.

[FR Doc. 2011-20050 Filed 8-8-11; 8:45 am]

BILLING CODE 3510-DS-P